DEPARTMENT OF EDUCATION

[CFDA No. 84.129B]

Rehabilitation Training: Rehabilitation Long-Term Training—Rehabilitation Counseling

AGENCY: Office of Special Education and Rehabilitative Services, Department of Education.

ACTION: Notice reopening the Rehabilitation Long-Term Training—Rehabilitation Counseling fiscal year (FY) 2009 competition.

SUMMARY: On November 17, 2008, we published in the Federal Register (73 FR 67852) a notice inviting applications for the Rehabilitation Long-Term Training—Rehabilitation Counseling FY 2009 competition. That notice established a January 15, 2009 deadline date for eligible applicants to apply for funding under this program.

In order to allow applicants the opportunity to respond to a correction in the selection criteria published in the Application Package, we are reopening the Rehabilitation Long-Term Training—Rehabilitation Counseling FY 2009 competition to eligible applicants. Specifically, we inadvertently omitted a heading and the point value of the criterion on Quality of Project Services, worth 10 points. The requirements of this criterion were embedded at the end of the criterion on Nature and Scope of Curriculum, worth 20 points. By omitting the heading and points for the criterion on Quality of Project Services, applicants were given the mistaken impression that this criterion was part of the Nature and Scope of Curriculum criterion. We have corrected the selection criteria in the Application Package. This correction of the selection criteria increases the possible points an applicant may receive from 90 points to 100 points and makes it clear that there is a criterion on Quality of Project Services, worth 10 points. We strongly recommend that any eligible applicant that submitted its application using the criteria in the original application package re-submit its application in order to ensure that there is a clear response to the criterion on Quality of Project Services. If an applicant that submitted its application by the January 15, 2009 deadline does not choose to re-submit its application to address separately the Nature and Scope of Curriculum and Quality of Project Services criteria, we will increase the point value of the co-joined criteria contained under the heading Nature and Scope of Curriculum from 20 to 30 points for that applicant and the selection criteria overall from 90 to 100 points. We will separate the applicant's response to the co-joined criteria under the heading of Nature and Scope of Curriculum, and each criteria will be rated separately with the total value of the Nature and Scope of Curriculum criteria being 20 points and the Quality of Project Services criteria being 10 points.

All information in the November 17, 2008 notice remains the same for this notice reopening the competition, except for the following updates to Dates and to section IV. 3. Submission Dates and Times.

Dates and section IV. 3. Submission Dates and Times:

Applications Available: February 23, 2009.

Deadline for Transmittal of Applications: March 16, 2009.

Note: Applications for grants under this program must be submitted electronically using the Governmentwide Grants.gov Apply site at http://www.grants.gov. For information about how to submit your application electronically, please refer to Electronic Submission of Applications in the November 17, 2008 notice (73 FR 67852-67856). We encourage eligible applicants to submit their applications as soon as possible to avoid any problems with filing electronic applications on the last day.

Deadline for Intergovernmental Review: May 8, 2009.

FOR FURTHER INFORMATION CONTACT: Edwin Powell, U.S. Department of Education, Rehabilitation Services Administration, 400 Maryland Avenue, SW., room 5038, PCP, Washington, DC 20202-2800. Telephone: (202) 245-7505 or by e-mail: Edwin.Powell@ed.gov.

If you use a telecommunications device for the deaf (TDD), you may call the Federal Relay Service (FRS) at 1-800-877-8339. Individuals with disabilities may obtain this notice in an accessible format (e.g., braille, large print, audiotape, or computer diskette) on request to the contact person listed in this section.

Electronic Access to This Document: You can view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 29 U.S.C. 772.

Delegation of Authority: The Secretary of Education has delegated authority to Andrew J. Pepin, Executive Administrator for Special Education and Rehabilitative Services to perform the functions of the Assistant Secretary for Special Education and Rehabilitative Services.

Dated: February 18, 2009.
Andrew J. Pepin,
Executive Administrator for Special Education and Rehabilitative Services.

[FR Doc. E9-3812 Filed 2-20-09; 8:45 am]

BILLING CODE 4000-01-P